OFFICE OF THE UNITED STATES TRADE REPRESENTATIVE

Trade Policy Staff Committee; Public Comments on Preparations for the Fourth Ministerial Conference of the World Trade Organization, November 9-13, 2001 in Doha, Qatar

ACTION: Notice and request for comments.

SUMMARY: The Trade Policy Staff Committee (TPSC) is soliciting public comments on U.S. objectives and preparations for the upcoming meeting of the World Trade Organization (WTO) Ministerial Conference in Doha, Qatar, on November 9-13, 2001. Several subjects addressed in prior TPSC requests for public comments—agriculture, services, market access and the functioning of the WTO generally—continue to feature prominently in the WTO's work program, and will be included in the preparatory process for the Fourth Ministerial Conference. In addition, the agenda for the ministerial meeting, including whether to launch a round of multilateral trade negotiations, will be debated by WTO Members in the coming months. Currently, WTO Members have not reached a consensus on whether to launch a round of negotiations. The United States has signaled that it would be prepared to work toward a consensus among members to realize the launch of a round of negotiations in Doha. As part of the preparatory process, the TPSC is requesting comments so as to take into consideration the broadest range of views concerning the agenda of the meeting and the WTO's future work program. Comments received will be considered by the Executive Branch in formulating U.S. positions for these discussions and deliberations.

DATES: Comments are due by May 10, 2001.

ADDRESSES: Office of the United States Trade Representative, 600 17th Street, NW., Washington, DC 20508. Attention: Gloria Blue, Executive Secretary, Trade Policy Staff Committee.

FOR FURTHER INFORMATION CONTACT: General inquiries should be made to the Office of WTO and Multilateral Affairs at (202) 395-6843; inquiries about individual subjects will be transferred to appropriate staff members at USTR. Information about the WTO can be obtained via the Internet on the USTR website (http://www.ustr.gov), or on the WTO website (http://www.wto.org). Procedural inquiries concerning the public comment process should be directed to Gloria Blue, Executive Secretary, TPSC, (202) 395-3475.

SUPPLEMENTARY INFORMATION: Additional information on the WTO and the proposed round of negotiations can be found on the USTR website. In particular, Chapter 2 of the 2001 Trade Policy Agenda and 2000 Annual Report of the President of the United States on the Trade Agreements Program, and the annexes to that chapter contain substantial background information on the WTO, its organization and the work of its councils and committees. Also accessible via the USTR website are Chapter 2 of the 1999 Annual Report of the President on the Trade Agreements Program (submitted on March 1, 2000), which includes a report to Congress assessing the first five years' operation of the WTO; submissions made by the United States thus far in the mandated negotiations on agriculture and services; and submissions to the WTO as part of the preparatory process for the third WTO Ministerial Conference in Seattle in December 1999.

The TPSC invites written comments from the public on preparations for the WTO's Fourth Ministerial Conference meeting to be held in Doha, Qatar, November 9-13. Pursuant to the Agreement Establishing the WTO, meetings of the ministerial conference must be held at least every two years. The Fourth Ministerial Conference will address the WTO's ongoing program of work, including the mandated negotiations underway on services and agriculture, the operation and functioning of the WTO, implementation of existing agreements, and its future work program. The General Council of the WTO, the plenary body consisting of all WTO Members, is responsible for the preparations for the ministerial conference. Members differ, at this point, as to whether Ministers should launch a new round of multilateral trade negotiations, and the content of the WTO's future work program. The General Council will continue its consultations on these issues, without prejudice to various positions of Members, with the aim of achieving a consensus among Members sufficiently in advance of the Doha meeting so as to ensure appropriate preparations.

Further detail on the ongoing WTO work program is set out in two previous requests for public comments related to the WTO published in 2000. These requests are: (1) Public Comments for the Mandated Multilateral Trade Negotiations on Agriculture and Services in the WTO and Priorities for Future Market Access Negotiations on Non-Agricultural Goods, published on March 28, 2000 (Volume 65, Number 60), calling for public comments on general as well as specific negotiating objectives), and (2) Public Comments on Institutional Improvements to the World Trade Organization (WTO), Particularly With Respect to the Transparency of its Operations and Outreach to Civil Society, published on June 8, 2000 (Volume 65, Number 111) calling for proposals for improving the functioning of the WTO, particularly with respect to its outreach activities and the transparency of its operations including dispute settlement). For ease of submission, the TPSC has identified the following headings under which comments may be submitted. Submissions should identify the area or areas subject to comment. These include:

(1) WTO Built-in Agenda Negotiations on Agriculture and Services. Supplementary comments are invited on the negotiations currently underway pursuant to the terms of the Uruguay Round agreements that provide for further negotiations in the areas of agriculture and services. A TPSC solicitation of public comments was published on March 28, 2000, as noted above. New comments are welcome, but comments submitted pursuant to the previous notice need not be resubmitted.

(2) Non-agricultural/Industrial Market Access. Comments on market access supplementing those submitted in connection with the March 28, 2000 request for public comment are invited. The mandated negotiations referred to above address market access for agricultural goods from Chapters 1-25 of the Harmonized Tariff Schedule, as specified by the WTO Agreement on Agriculture. There is a growing convergence of views among WTO members that further negotiations on non-agricultural or industrial market access are desirable. New comments are welcome, but comments submitted pursuant to the earlier notice need not be resubmitted.

(3) Existing Agreements and Work Programs. Comments are requested regarding U.S. priorities under the other Agreements concluded in the Uruguay Round. Particular attention should be given to the improvements, if any, that might be sought through expansion of individual work programs, or through negotiations in any of these areas, or further progress with respect to implementation of these Agreements. For a complete list of WTO Agreements, Committees and their work programs, see USTR's 2000 Annual Report, available at http://www.ustr.gov.

(4) Development and Related Issues. Comments are requested on ways to facilitate the participation of poorer, less advanced and least developed countries in the WTO, including making the WTO more responsive to development concerns raised as a result of the debate on globalization. Comments should take into account work that has been conducted to integrate the technical assistance provided by various international organizations, including the WTO. Areas for comment could include provision of additional capacity building and market access opportunities, the possible graduation of countries from preference programs, the broader issue of integrating trade into poverty reduction strategies with other institutions, and enhancing the work of the WTO with other international institutions such as the IMF, IBRD, UNCTAD, ILO and UNEP, to be more responsive to the development needs of WTO Members.

(5) Systemic Issues/Institutional Reform. Comments are requested on the institutional issues raised regarding the WTO in terms of its openness and accountability, including its outreach to citizens and in dispute settlement. The United States continues to seek institutional improvements to the WTO, while preserving its intergovernmental nature. For example, the United States has consistently called for the WTO to build upon past progress by: (i) Expanding the range of WTO documents available to the public; (ii) strengthening the guidelines for consultations with non-governmental organizations (NGOs); (iii) enhancing the WTO's program of symposia and consultations on specific topics of mutual interest; (iv) expanding and improving the use of Internet facilities to reach more stakeholders in more creative ways; and (v) broadening the range of WTO meetings and events that would be open to the public. Another area of interest relates to relations among WTO Members and improvements to internal consultative processes, including the establishment of new institutional arrangements within the WTO that would build upon the general practice of operating on the basis of a consensus of all Members.

(6) Singapore Work Program Issues (Investment, Competition, Transparency in Government Procurement and Trade Facilitation) and Electronic Commerce. Comments are requested with respect to next steps on issues added to the WTO's agenda at the 1996 and 1998 Ministerial Meetings in Singapore and Geneva, respectively. Comments should address the nature, objectives and direction of any further work to be undertaken with respect to the issues raised in the context of the work of the working groups established on trade and investment, trade and competition policy, transparency in government procurement, the exploratory work undertaken by the WTO to assess the scope for WTO rules in the area of trade facilitation, and the work program on e-commerce. Some WTO Members have suggested negotiations on these points, and the TPSC welcomes views on the desirability of such negotiations. Working groups on investment, competition and transparency in government procurement continue to operate. With respect to transparency in government procurement, Members have agreed to identify the elements of a possible agreement, but have not yet agreed to move to conclude such an agreement.

(6) Other Issues. Comments are welcome on other issues that respondents believe would be appropriate to raise with respect to the future work program of the WTO. The TPSC's aim is to be as inclusive as possible in providing opportunity for public comment with respect to the ministerial agenda and objectives.

Written Comments

Submitters need not duplicate submissions provided in response to the March 28, 2000 solicitation regarding objectives for the mandated negotiations in agriculture and services and potential industrial market access negotiation, nor the June 8, 2000 submissions related to transparency. Persons submitting written comments should provide twenty (20) copies no later than May 10, 2001 to Gloria Blue, Executive Secretary, Trade Policy Staff Committee, Office of the United States Trade Representative, 600 17th Street NW., Washington, DC 20508. Written comments submitted in connection with this request, except for information granted “business confidential” status pursuant to 15 CFR 2003.6, will be available for public inspection in the USTR Reading Room, in Room 3 of the annex of the Office of the United States Trade Representative, 1724 H Street, Northwest, Washington, DC. An appointment to review the file may be made by calling Brenda Webb at 202-395-6186. The Reading Room is open to the public from 10-12 and from 1-4, Monday through Friday.

Business confidential information will be subject to the requirements of 15 CFR 2003.6. If the submission contains business confidential information, it must be accompanied by twenty copies of a public version that does not contain business confidential information. A justification as to why the information contained in the submission should be treated confidentially must be included with the submission. In addition, any submissions containing business confidential information must be clearly marked “Confidential” at the top and bottom of the cover page (or letter) and each succeeding page of the submission. The version that does not contain confidential information should also be clearly marked at the top and bottom of each page “Public Version” or “Non-Confidential.”

Carmen Suro-Bredie,
Chair, Trade Policy Staff Committee.

[FR Doc. 01-8384 Filed 4-4-01; 8:45 am]

BILLING CODE 3190-01-U